DEPARTMENT OF JUSTICE

Notice of Lodging of Consent Decree Under The Clean Air Act, The Comprehensive Environmental Response, Compensation and Liability Act, and The Emergency Planning and Community Right-To-Know Act

Notice is hereby given that on April 5, 2012, a proposed Consent Decree (“Consent Decree”) in United States v. Marathon Petroleum Company LP, et al., Civil Action No. 2:12-cv-11544-DML-MJH, was lodged with the United States District Court for the Eastern District of Michigan.

In this action, the United States sought injunctive relief and civil penalties from Marathon Petroleum Company LP and its wholly-owned subsidiary, Catlettsburg Refining, LLC (collectively “MPC”), pursuant to Sections 113(b) and 167 of the Clean Air Act, 42 U.S.C. 7413(b) and 7477; Sections 109 and 113(b) of the Comprehensive Environmental Response, Compensation and Liability Act, 42 U.S.C. 9609(c) and 9613(b); and Section 325(b)(3) of the Emergency Planning and Community Right-To-Know Act, 42 U.S.C. 11045(b)(3). The alleged violations occurred at six petroleum refineries that MPC owns and operates in the following locations: Robinson, Illinois; Catlettsburg, Kentucky; Garyville, Louisiana; Detroit, Michigan; Canton, Ohio; and Texas City, Texas. The alleged violations involve all twenty-two steam-assisted flares at these refineries.

Under the Consent Decree, MPC is required to minimize flaring and to efficiently combust any gases that are flared. Under the flare minimization terms of the settlement, MPC will implement waste gas minimization plans at each refinery; analyze the root causes of flaring events in order to prevent them in the future; and, after several years of these efforts, comply with “flaring caps,” which limit the volume of gas that MPC can flare. Under the flare efficiency terms of the settlement, MPC will install numerous monitoring systems on the flares; integrate the data from the monitoring systems into automatic control logic for operation of the flares; comply with several operating limits that are designed to ensure 98% combustion efficiency; and agree to comply with 98% combustion efficiency at each flare. As a mitigation project, MPC will install controls on the sludge-handling facilities at its Detroit Refinery at an estimated cost of $2.2 million. MPC also will pay a civil penalty of $460,000.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States v. Marathon Petroleum Company LP, et al., D. J. Ref. No. 90-5-2-1-09915.

During the public comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or emailing a request to “Consent Decree Copy” (EESCDCopy.ENRD@usdoj.gov), fax number (202) 514-0097; phone confirmation number (202) 514-5271. If requesting a copy from the Consent Decree Library by mail, please enclose a check in the amount of $ 49.00 (25 cents per page reproduction cost) payable to the U.S. Treasury or, if requesting by email or fax, forward a check in that amount to the Consent Decree Library at the address given above.

Maureen M. Katz,
Assistant Chief, Environmental Enforcement Section, Environment and Natural Resources Division.

[FR Doc. 2012-8607 Filed 4-10-12; 8:45 am]

BILLING CODE 4410-15-P